DEPARTMENT OF VETERANS AFFAIRS

Privacy Act of 1974; Amendment of Two Systems of Records

AGENCY: Department of Veterans Affairs.

ACTION: Notice.

SUMMARY: As required by the Privacy Act of 1974, 5 U.S.C. 552a(e), notice is hereby given that the Department of Veterans Affairs (VA) is amending two systems of records entitled “Personnel and Accounting Pay System—VA” (27VA047) and “General Personnel Records (Title 38)—VA” (76VA05) by adding a new routine use to each system in order to disclose information as required by law to enroll the children of Federal employees in healthcare benefits coverage and to notify the courts about the coverage.

DATES: If no public comment is received during the 30-day review period allowed for public comment, or unless otherwise published in the Federal Register by VA, the amended systems of records are effective October 28, 2002.

ADDRESSES: You may mail or hand-deliver written comments concerning the proposed amendment to the systems of records to the Office of Regulations Management (02D), Department of Veterans Affairs, 810 Vermont Avenue, NW., Washington, DC 20420; or fax comments to (202) 273-9289; or email comments to “OGCRegulations@mail.va.gov”. All relevant material received before October 28, 2002 will be considered. Comments will be available for public inspection at the above address in the Office of Regulations Management, Room 1158, between the hours of 8 a.m. and 4:30 p.m., Monday through Friday (except holidays).

FOR FURTHER INFORMATION CONTACT: Peter Mulhern, Office of Financial Policy (047GC1), Department of Veterans Affairs, 810 Vermont Avenue, NW., Washington, DC 20420, (202) 273-5570.

SUPPLEMENTARY INFORMATION: Public Law 106-394 (October 30, 2000), 114 Stat. 1629, the “Federal Employees Health Benefits Children's Equity Act of 2000,” and 5 U.S.C. 8905(h) mandate that agencies ensure that employees provide healthcare benefit coverage for their children when such employees are required to do so by a court or administrative order. This law simply places Federal employees in the same position as private sector employees in regard to being required to provide healthcare benefits coverage for their dependent children when required by court or administrative order. VA and other Federal agencies are required to enroll employees in the Federal Employees' Health Benefits (FEHB) program if they do not voluntarily enroll or purchase other healthcare benefits coverage. An employee subject to such an order must enroll in self and family coverage in a plan that provides full benefits to his or her child or children in the area where they live or provide documentation that he or she has other healthcare coverage for the children. If the employee does not enroll in an appropriate healthcare plan or provide documentation of other coverage for the children, the agency must enroll the employee for self and family coverage in the standard option of the Blue Cross and Blue Shield Service Benefit Plan (enrollment code 105).

The Office of Personnel Management (OPM) has provided guidance to agencies on implementation of this law in OPM Retirement and Insurance Service Benefits Administration Letters Number 00-224 (November 21, 2000) and Number 01-202 (January 29, 2001), and Retirement and Insurance Service Payroll Office Letter Number P-00-39 (December 14, 2000).

In order to comply with Public Law 106-394 and 5 U.S.C. 8905(h), VA proposes to add a new routine use to 27VA047 and 76VA05. This new routine use will permit disclosure of information to a court, administrative entity, or custodial parent of a child in order to provide documentation of payroll deductions for child healthcare insurance coverage in accordance with a court or administrative order. The routine use also permits disclosure of information from these systems of records to healthcare insurance carriers in order to enroll employees and their children in healthcare insurance plans. VA has determined that the release of information for these purposes is a necessary and proper use of the information in these systems of records and that the new specific routine use for transfer of this information is appropriate.

An altered systems of records report and a copy of the revised systems notice have been sent to the House of Representatives Committee on Government Reform and Oversight, the Senate Committee on Governmental Affairs, and the Office of Management and Budget (OMB) as required by 5 U.S.C. 552a(r) and guidelines issued by OMB (65 FR 77677, (12/12/00)).

Approved: September 11, 2002.
Anthony J. Principi,
Secretary of Veterans Affairs.

Notice of Amendment to Systems of Records

In the system of records identified as 27VA047, “Personnel and Accounting Pay System—VA,” as set forth in the Federal Register 40 FR 38095 (8/26/75) and amended in 48 FR 16372 (4/15/83), 50 FR 23009 (5/30/85), 51 FR 6858 (2/26/86), 51 FR 25968 (7/17/86), 55 FR 42534 (10/19/90), 56 FR 23952 (5/24/91), 58 FR 39088 (7/21/93), 58 FR 40852 (7/30/93), 60 FR 35448 (7/7/95), 62 FR 41483 (8/1/97), 62 FR 68362 (12/31/97), 65 FR 20850 (4/18/00), 65 FR 31370 (5/17/00), and 65 FR 44097 (7/17/00) the system is revised as follows:

* * * * *

Routine uses of records maintained in the system, including categories of users and the purposes of such uses:

* * * * *

34. VA may disclose information from this system of records to a court, administrative entity, or custodial parent of a child in order to provide documentation of payroll deductions for child healthcare insurance coverage in accordance with a court or administrative order as required by 5 U.S.C. 8905(h), as enacted by Public Law 106-394 and in accordance with the procedures stated in the applicable Office of Personnel Management Benefits Administration and Payroll Office Letters. VA may also disclose information from this system of records to healthcare insurance carriers in order to enroll employees and their children in healthcare insurance plans in accordance with Public Law 106-394.

* * * * *

In the system of records identified as 76VA05, “General Personnel Records (Title 38)—VA,” as set forth in the Federal Register at 65 FR 45131 (7/20/00), the system is revised as follows:

* * * * *

Routine uses of records maintained in the system, including categories of users and the purposes of such uses:

* * * * *

39. VA may disclose information from this system of records to a court, administrative entity, or custodial parent of a child in order to provide documentation of payroll deductions for child healthcare insurance coverage in accordance with a court or administrative order as required by 5 U.S.C. 8905(h), as enacted by Public Law 106-394 and in accordance with the procedures stated in the applicable Office of Personnel Management Benefits Administration and Payroll Office Letters. VA may also disclose information from this system of records to healthcare insurance carriers in order to enroll employees and their children in healthcare insurance plans in accordance with Public Law 106-394.

[FR Doc. 02-24392 Filed 9-26-02; 8:45 am]

BILLING CODE 8320-01-P